NUCLEAR REGULATORY COMMISSION

Advisory Committee on Nuclear Waste; Notice of Meeting

The Advisory Committee on Nuclear Waste (ACNW) will hold its 122nd meeting on October 17-19, 2000, Room T-2B3, 11545 Rockville Pike, Rockville, Maryland.

The entire meeting will be open to public attendance.

The schedule for this meeting is as follows:

Tuesday, October 17, 2000

A. 8:30-10:45 A.M.: Opening Statement/Planning and Procedures (Open)—The Chairman will open the meeting with brief opening remarks. The Committee will then review items under consideration at this meeting and consider topics proposed for future consideration by the full Committee.

B. 11:00-12:30 P.M.: Discussion of Updated Site Suitability and License Application (LA) Task Action Plan (TAP) (Open)—The Committee will discuss the revised LA TAP.

C. 1:30-3:00 P.M.: West Valley License Termination Report (Open)—The Committee will be briefed by the NRC staff on the results of its evaluation of comments and proposed final approach to West Valley decommissioning criteria.

D. 3:15-5:30 P.M.: Discussion of Proposed ACNW Reports (Open)—The Committee will discuss proposed ACNW Reports on matters considered during this meeting.

Wednesday, October 18, 2000

E. 8:30-12:00 Noon: Corrosion Resistance of Alloy-22 (Open)—The Committee will discuss recent tests to explore the specific aspects of the corrosion resistance of Alloy-22 material.

F. 1:00-2:00 P.M.: Entombment Option for Decommissioning Power Reactors (Open)—The Committee will hear a presentation from the staff on its rulemaking plan addressing the entombment option for power reactors.

G. 2:00-3:15 P.M.: Consultant/Member Reports (Open)—The Committee will hear comments from consultants and members on recent relevant activities.

H. 3:30-5:30 P.M.: Discussion of Proposed ACNW Reports (Open)—The Committee will continue its discussion of proposed ACNW reports.

Thursday, October 19, 2000

I. 8:30-10:00 A.M.: Part 40 LLW Source Material and Improvement of Control of Regulated Source Material (Open)—The Committee will receive an information briefing by the NRC staff on its progress in developing a more risk-informed and coherent set of requirements for licensing source material.

J. 10:00-2:00 P.M.: Discussion of Proposed ACNW Reports (Open)—The Committee will continue its discussion of proposed ACNW reports.

K. 2:00-3:00 P.M.: Miscellaneous (Open)—The Committee will discuss matters related to the conduct of Committee activities and matters and specific issues that were not completed during previous meetings, as time and availability of information permit.

Procedures for the conduct of and participation in ACNW meetings were published in the Federal Register on September 28, 1999 (64 FR 52352). In accordance with these procedures, oral or written statements may be presented by members of the public, electronic recordings will be permitted only during those portions of the meeting that are open to the public, and questions may be asked only by members of the Committee, its consultants, and staff. Persons desiring to make oral statements should notify Howard J. Larson, ACNW, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office, prior to the meeting. In view of the possibility that the schedule for ACNW meetings may be adjusted by the Chairman as necessary to facilitate the conduct of the meeting, persons planning to attend should notify Mr. Larson as to their particular needs.

Further information regarding topics to be discussed, whether the meeting has been canceled or rescheduled, the Chairman's ruling on requests for the opportunity to present oral statements and the time allotted therefore can be obtained by contacting Mr. Howard J. Larson, ACNW (Telephone 301/415-6805), between 8:00 am and 5:00 pm EDT.

ACNW meeting notices, meeting transcripts, and letter reports are now available for downloading or reviewing on the internet at http://www.nrc.gov/ACRSACNW.

Videoteleconferencing service is available for observing open sessions of ACNW meetings. Those wishing to use this service for observing ACNW meetings should contact Mr. Theron Brown, ACNW Audiovisual Technician (301/415-8066), between 7:30 a.m. and 3:45 p.m. EDT at least 10 days before the meeting to ensure the availability of this service. Individuals or organizations requesting this service will be responsible for telephone line charges and for providing the equipment and facilities that they use to establish the videoteleconferencing link. The availability of videoteleconferencing services is not guaranteed.

Dated: October 2, 2000.
Andrew L. Bates,
Advisory Committee Management Officer.

[FR Doc. 00-25691 Filed 10-5-00; 8:45 am]

BILLING CODE 7590-01-P